DEPARTMENT OF TRANSPORTATION

National Highway Traffic Safety Administration

[Docket No. NHTSA-2017-0069]

Notice To Extend the Public Comment Period for the Notice of Intent To Prepare an Environmental Impact Statement for Model Year 2022-2025 Corporate Average Fuel Economy Standards

AGENCY: National Highway Traffic Safety Administration (NHTSA), Department of Transportation (DOT).

ACTION: Notice of extension.

SUMMARY: NHTSA is extending the public comment period for the Notice of Intent (NOI) to Prepare an Environmental Impact Statement (EIS) for Model Year 2022-2025 Corporate Average Fuel Economy (CAFE) Standards to Monday, September 25, 2017. The NOI was published in the Federal Register on Wednesday, July 26, 2017. The public comment period for the NOI was originally scheduled to end on Friday, August 25, 2017.

DATES: To ensure that NHTSA has an opportunity to fully consider scoping comments, scoping comments should be received on or before Monday, September 25, 2017. NHTSA will consider comments received after that date to the extent the rulemaking schedule allows.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Room W12-140, 1200 New Jersey Avenue SE., Washington, DC 20590.

• Hand Delivery or Courier: U.S. Department of Transportation, West Building, Ground Floor, Room W12-140, 1200 New Jersey Avenue SE., Washington, DC, between 9 a.m. and 5 p.m. Eastern time, Monday through Friday, except Federal holidays.

• Fax: 202-493-2251.

Regardless of how you submit your comments, you must include the docket number identified in the heading of this notice. Note that all comments received, including any personal information provided, will be posted without change to http://www.regulations.gov. Please see the “Privacy Act” heading below.

You may call the Docket Management Facility at 202-366-9324.

Docket: For access to the docket to read background documents or comments received, go to http://www.regulations.gov or the street address listed above. We will continue to file relevant information in the Docket as it becomes available.

Privacy Act: In accordance with 5 U.S.C. 553(c), DOT solicits comments from the public to better inform its rulemaking process. DOT posts these comments, without edit, including any personal information the commenter provides, to http://www.regulations.gov, as described in the system of records notice (DOT/ALL-14 FDMS), which can be reviewed at https://www.transportation.gov/privacy. Anyone is able to search the electronic form of all comments received into any of our dockets by the name of the individual submitting the comment (or signing the comment, if submitted on behalf of an association, business, labor union, etc.).

Confidential Business Information: If you wish to submit any information under a claim of confidentiality, you should submit three copies of your complete submission, including the information you claim to be confidential business information, to the Chief Counsel, NHTSA, at the address given below under FOR FURTHER INFORMATION CONTACT. When you send a comment containing confidential business information, you should include a cover letter setting forth the information specified in NHTSA's confidential business information regulation. See 49 CFR part 512. In addition, you should submit a copy from which you have deleted the claimed confidential business information to the Docket by one of the methods set forth above.

FOR FURTHER INFORMATION CONTACT: For technical issues, contact Ken Katz, Fuel Economy Division, Office of International Policy, Fuel Economy, and Consumer Programs, telephone: 202-366-4936, email: Ken.Katz@dot.gov; for legal issues, contact Russell Krupen, Legislation & General Law Division, Office of the Chief Counsel, telephone: 202-366-1834, email: Russell.Krupen@dot.gov, at the National Highway Traffic Safety Administration, 1200 New Jersey Avenue SE., Washington, DC 20590. Requests to be placed on the project mailing list may be sent to either individual by mail or email.

SUPPLEMENTARY INFORMATION: On Wednesday, July 26, 2017, NHTSA published in the Federal Register a document titled “Notice of Intent to Prepare an Environmental Impact Statement for Model Year 2022-2025 Corporate Average Fuel Economy Standards.” 82 FR 34740. The public comment period for the NOI was scheduled to end on Friday, August 25, 2017.

On Tuesday, August 15, 2017, NHTSA received a request for a 30-day extension of the public comment period from the Sierra Club, the Center for Biological Diversity, Environment America, the Safe Climate Campaign, and the Environment Law & Policy Center. NHTSA has reviewed the request and is extending the public comment period for the NOI by 31 days to Monday, September 25, 2017. NHTSA will consider comments received after that date to the extent the rulemaking schedule allows.

Issued in Washington, DC, under authority delegated in 49 CFR parts 1.81 and 1.95.
Raymond R. Posten,
Associate Administrator for Rulemaking.

[FR Doc. 2017-18366 Filed 8-25-17; 11:15 am]

BILLING CODE 4910-59-P